DEPARTMENT OF LABOR

2 CFR Part 2998

29 CFR Parts 95 and 98

RIN 1291-AA38

Department of Labor Implementation of OMB Guidance on Nonprocurement Debarment and Suspension; Withdrawal

AGENCY: Office of the Assistant Secretary for Administration and Management, Department of Labor (OASAM), Department of Labor.

ACTION: Withdrawal of proposed rule.

SUMMARY: On April 29, 2016, the Department of Labor, Office of the Assistant Secretary for Administration and Management (OASAM) simultaneously published in the Federal Register a notice of proposed rulemaking and a direct final rule to implement OMB Guidance on Nonprocurement Debarment and Suspension. The comment period for both the proposed rule and direct final rule ended on May 31, 2016, with no comments received. For this reason, OASAM is withdrawing the proposed rule.

DATES: The proposed rule that was published on April 29, 2016 (81 FR 25620) is withdrawn as of September 30, 2016.

ADDRESSES: Electronic copies of this Federal Register notice are available at http://www.regulation.gov.

FOR FURTHER INFORMATION CONTACT: Duyen Tran Ritchie, Office of the Chief Procurement Officer, (202) 693-7277 [Note: This is not a toll-free telephone number]; or by email at Ritchie.duyen.t@dol.gov.

SUPPLEMENTARY INFORMATION: On April 29, 2016 (81 FR 25620), OASAM published a proposed rule in the Federal Register to implement OMB Guidance on Nonprocurement Debarment and Suspension. The proposed rule is withdrawn as of September 30, 2016.

List of Subjects

2 CFR Part 2998

Administrative practice and procedure, Government procurement, Grant programs, Grants administration, Reporting and recordkeeping requirements.

29 CFR Part 95

Foreign governments, Grants and agreements with institutions of higher education, hospitals, and other non-profit organizations, and with commercial organizations, Organizations under the jurisdiction of foreign governments, and International organizations.

29 CFR Part 98

Governmentwide debarment and suspension (nonprocurement).

Authority and Signature

T. Michael Kerr, Assistant Secretary of Labor for Administration and Management, U.S. Department of Labor, 200 Constitution Avenue NW., Washington, DC 20210, authorized the preparation of this withdrawal of the proposed rule.

Dated: September 16, 2016.
T. Michael Kerr,
Assistant Secretary for Administration and Management.

[FR Doc. 2016-23427 Filed 9-29-16; 8:45 am]

BILLING CODE 4510-7B-P